DEPARTMENT OF HOMELAND SECURITY

National Communications System

[Docket No. DHS-2008-0098]

President's National Security Telecommunications Advisory Committee

AGENCY: National Communications System, DHS.

ACTION: Notice of partially closed advisory committee meeting.

SUMMARY: The President's National Security Telecommunications Advisory Committee (NSTAC) will be meeting by teleconference; the meeting will be partially closed to the public.

DATES: November 6, 2008, from 2 p.m. until 3 p.m.

ADDRESSES: The meeting will take place by teleconference. For access to the conference bridge and meeting materials, contact Ms. Sue Daage at (703) 235-5526 or by e-mail at sue.daage@dhs.gov by 5 p.m. October 27, 2008. If you desire to submit comments regarding the November 6, 2008 meeting they must be submitted by November 13, 2008. Comments must be identified by DHS-2008-0098 and may be submitted by one of the following methods: (1) Federal eRulemaking Portal: http://www.regulations.gov; (2) E-mail: NSTAC1@dhs.gov (Include docket number in the subject line of the message); (3) Fax: 1-866-466-5370; or (4) Mail: Office of the Manager, National Communications System (Customer Service Branch), Department of Homeland Security, Washington, DC 20529.

Instructions: All submissions received must include the words “Department of Homeland Security” and DHS-2008-0098, the docket number for this action. Comments received will be posted without alteration at http://www.regulations.gov, including any personal information provided.

Docket: For access to the docket to read background documents or comments received by the NSTAC, go to http://www.regulations.gov.

FOR FURTHER INFORMATION CONTACT: Ms. Kiesha Gebreyes, Deputy Chief, Customer Service Branch at (703) 235-5525, e-mail: Kiesha.Gebreyes@dhs.gov or write the Deputy Manager, National Communications System, Department of Homeland Security, CS&C/NCS/CSB, 245 Murray Lane, SW., Building 410, Washington, DC 20528.

SUPPLEMENTARY INFORMATION: NSTAC advises the President on issues and problems related to implementing national security and emergency preparedness telecommunications policy. Notice of this meeting is given under the Federal Advisory Committee Act (FACA), Public Law 92-463 (1972), as amended appearing in 5 U.S.C. App.1 et seq. (1997).

At the upcoming meeting, between 2 p.m. and 2:30 p.m., the conference call will include government stakeholder feedback on NSTAC initiatives, an update on NSTAC outreach activities, and a discussion and vote on the national security/emergency preparedness internet protocol-based traffic report. This portion of the meeting will be open to the public.

Between 2:30 p.m. and 3 p.m., the NSTAC will discuss core network assurance, cyber collaboration and internet identity. This portion of the meeting will be closed to the public.

Persons with disabilities who require special assistance should indicate this when arranging access to the teleconference and are encouraged to identify anticipated special needs as early as possible.

Basis for Closure: During the portion of the meeting to be held from 2:30 p.m. to 3 p.m., the NSTAC will discuss core assurance and physical security of the cyber network, cybersecurity collaboration between the Federal Government and the private sector, and identity management. Such discussions will likely include internal agency personnel rules and practices, specifically, identification of vulnerabilities in the Federal Government's cyber network, along with strategies for mitigating those vulnerabilities and other sensitive law enforcement or homeland security information of a predominantly internal nature which, if disclosed, would significantly risk circumvention of DHS regulations or statutes. NSTAC members will likely inform the discussion by contributing confidential and voluntarily-provided commercial information relating to private sector network vulnerabilities that they would not customarily release to the public. Disclosure of this information can be reasonably expected to frustrate DHS's ongoing cybersecurity programs and initiatives and could be used to exploit vulnerabilities in the Federal Government's cyber network. Accordingly, the relevant portion of this meeting will be closed to the public pursuant to 5 U.S.C. 552b(c)(2), (4) and (9)(B).

James Madon,
Director, National Communications System.

[FR Doc. E8-24613 Filed 10-15-08; 8:45 am]

BILLING CODE 4410-10-P